NUCLEAR REGULATORY COMMISSION

[Docket No. 99902052; NRC-2023-0143]

NuScale Power, LLC; Carbon Free Power Project, LLC; Carbon Free Power Project

AGENCY: Nuclear Regulatory Commission.

ACTION: Limited work authorization application; withdrawal by applicant; cancellation of notice of hearing and opportunity to request a hearing.

SUMMARY: The U.S. Nuclear Regulatory Commission (NRC) has granted the request of Carbon Free Power Project, LLC (CFPP), and NuScale Power, LLC (NuScale), dated November 10, 2023, to withdraw a limited work authorization (LWA) application and an associated exemption request which had sought to conduct certain early construction activities at the CFPP site at the Idaho National Laboratory, near Idaho Falls, Idaho.

DATES: The effective date of the withdrawal of the LWA application is November 13, 2023.

ADDRESSES: Please refer to Docket ID NRC-2023-0143 when contacting the NRC about the availability of information regarding this document. You may obtain publicly available information related to this document using any of the following methods:

• Federal Rulemaking Website: Go to http://www.regulations.gov and search for Docket ID NRC-2023-0143. Address questions about Docket IDs to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

FOR FURTHER INFORMATION CONTACT: Omid Tabatabai, Office of Nuclear Reactor Regulation, U.S. Nuclear Regulatory Commission, Washington, DC 20555-0001; telephone: 301-415-6616; email: Omid.Tabatabai@nrc.gov.

SUPPLEMENTARY INFORMATION: On July 31, 2023, CFPP and NuScale submitted an LWA application and an exemption request, respectively, to obtain the NRC's approval to conduct certain early construction activities prior to their submittal of an application for and receipt of a combined license to construct and operate a 6-module nuclear power plant of NuScale's US460 design at the Idaho National Laboratory (ADAMS Package Accession No. ML23212A007 and ADAMS Accession No. ML23212A003).

On September 6, 2023, upon acceptance and docketing of the LWA application, the NRC issued a Federal Register notice, “Notice of Acceptance for Docketing; Request for Comment,” (88 FR 62408; September 11, 2023), to request comments from members of the public on the LWA application. On October 3, 2023, the NRC issued a further Federal Register notice, “Notice of Hearing; Opportunity to Request a Hearing and Petition for Leave to Intervene; Order Imposing Procedures,” (88 FR 68167), which announced, in part, that a hearing will be held and providing an opportunity for members of the public to request a hearing and petition for leave to intervene on the LWA application by December 4, 2023.

In a letter dated November 10, 2023, CFPP and NuScale, in accordance with section 2.107 of title 10 of the Code of Federal Regulations, requested termination of NRC's consideration of and the withdrawal of the LWA application and exemption request (ADAMS Accession No. ML23317A110). Additionally, NuScale requested to withdraw topical reports associated with the CFPP combined license application that had been submitted to the NRC for review. On November 16, 2023, NuScale submitted a follow-up letter requesting that the NRC staff suspend its review of an associated white paper and that the NRC staff provide the readiness assessment closure letter with a summary of the NRC staff's observations and feedback (ADAMS Accession No. ML23320A094).

On November 17, 2023, the NRC staff informed NuScale and CFPP that the NRC staff has terminated its review of the LWA application and other referenced submittals associated with CFPP's combined license application (ADAMS Accession No. ML23319A056). In view of the CFPP's termination, the NRC has granted the applicant's request to withdraw its LWA application, exemption request, topical reports, and white paper referenced in the NuScale and CFPP's November 10 and 16 letters, and has terminated its review of those submittals. Accordingly, the NRC is canceling the Federal Register notice of hearing and opportunity to request a hearing and petition for leave to intervene, published at 88 FR 68167, due to the withdrawal of the LWA application. No adjudicatory proceedings will be held by the NRC with respect to the withdrawn LWA application.

Dated: November 28, 2023.
For the Nuclear Regulatory Commission.
Omid Tabatabai-Yazdi,
Senior Project Manager, New Reactor Licensing Branch, Division of New and Renewed Licenses, Office of Nuclear Reactor Regulation.

[FR Doc. 2023-26435 Filed 11-30-23; 8:45 am]

BILLING CODE 7590-01-P